DEPARTMENT OF THE TREASURY

Submission for OMB Review; Comment Request

AGENCY: Department of the Treasury.

ACTION: Notice.

SUMMARY: December 19, 2016.

The Department of the Treasury will submit the following information collection requests to the Office of Management and Budget (OMB) for review and clearance in accordance with the Paperwork Reduction Act of 1995, on or after the date of publication of this notice.

DATES: Comments should be received on or before January 23, 2017 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

SUPPLEMENTARY INFORMATION:

Authority: Paperwork Reduction Act of 1995, Public Law 104-13.

Fiscal Service (FS)

OMB Control Number: 1530-0030.

Type of Review: Extension without change of a currently approved collection.

Title: Special Bond of Indemnity By Purchaser of United States Savings Bonds/Notes Involved in a Chain Letter Scheme.

Form: FS Form 2966.

Abstract: The information is requested to support a request for refund of the purchase price of savings bonds purchased in a chain letter scheme.

Affected Public: Individuals or Households.

Estimated Total Annual Burden Hours: 320.

OMB Control Number: 1530-0046.

Type of Review: Extension without change of a currently approved collection.

Title: Agreement And Request For Disposition Of A Decedent's Treasury Securities.

Form: FS Form 5394.

Abstract: The information is necessary to distribute Treasury securities and/or payments to the entitled person(s) when the decedent's estate was formally administered through the court and has been closed, or the estate is being settled in accordance with State statute without the necessity of the court appointing a legal representative.

Affected Public: Individuals or Households.

Estimated Total Annual Burden Hours: 9,250.

OMB Control Number: 1530-0051.

Type of Review: Extension without change of a currently approved collection.

Title: Offering of U.S. Mortgage Guaranty Insurance Company Tax and Loss Bonds.

Abstract: Regulations governing the issue, reissue, and redemption of U.S. Mortgage Guaranty Insurance Company Tax and Loss Bonds.

Affected Public: Businesses or other for-profits.

Estimated Total Annual Burden Hours: 13.

Bob Faber,
Acting Treasury PRA Clearance Officer.

[FR Doc. 2016-30888 Filed 12-21-16; 8:45 am]

BILLING CODE 4810-AS-P